Title 3—

The President

Executive Order 13915 of April 14, 2020

Providing an Order of Succession Within the Department of the Interior

By the authority vested in me as President by the Constitution and the laws of the United States of America, including the Federal Vacancies Reform Act of 1998, 5 U.S.C. 3345 et seq., it is hereby ordered that:

Section 1. Subject to the provisions of section 3 of this order, the officers named in section 2, in the order listed, shall act as and perform the functions and duties of the office of Secretary of the Interior (Secretary) during any period when both the Secretary and the Deputy Secretary of the Interior have died, resigned, or are otherwise unable to perform the functions and duties of the office of Secretary.

Sec. 2. Order of Succession. (a) Solicitor of the Department of the Interior;

(b) Assistant Secretary of the Interior in charge of Policy, Management, and Budget;

(c) Assistant Secretary of the Interior in charge of Land and Minerals Management;

(d) Assistant Secretary of the Interior in charge of Water and Science;

(e) Assistant Secretary of the Interior for Fish and Wildlife;

(f) Assistant Secretary of the Interior in charge of Indian Affairs; and

(g) Assistant Secretary of the Interior in charge of Insular and International Affairs.

Sec. 3. Exceptions. (a) No individual who is serving in an office listed in section 2 of this order in an acting capacity shall, by virtue of so serving, act as Secretary pursuant to this order.

(b) Notwithstanding the provisions of this order, the President retains discretion, to the extent permitted by the Federal Vacancies Reform Act of 1998, to depart from this order in designating an acting Secretary.

Sec. 4. Revocation of Executive Order. Executive Order 13244 of December 18, 2001 (Providing an Order of Succession Within the Department of the Interior), is hereby revoked.

THE WHITE HOUSE,

April 14, 2020.

[FR Doc. 2020-08392

Filed 4-16-20; 11:15 am]

Billing code 3295-F0-P